FEDERAL COMMUNICATIONS COMMISSION

47 CFR Part 73

[DA 01-2445; MM Docket No. 01-304, RM-10309; MM Docket No. 01-305, RM-10310.

Radio Broadcasting Services: Menard, TX; San Isidro, TX

AGENCY: Federal Communications Commission.

ACTION: Proposed rule.

SUMMARY: The Commission requests comments on a petition filed by Jeraldine Anderson, proposing the allotment of Channel 287C3 at Menard, Texas, as the community's second local aural transmission service. Channel 287C3 can be allotted to Menard in compliance with the Commission's minimum distance separation requirements with a site restriction of 11.9 kilometers (7.4 miles) southwest of Menard. The coordinates for Channel 287C3 at Menard are 30-52-29 North Latitude and 99-54-00 West Longitude. The Commission also requests comments on a petition filed by Jeraldine Anderson proposing the allotment of Channel 247A at San Isidro, Texas, as the community's first local aural transmission service. Channel 247A can be allotted to San Isidro in compliance with the Commission's minimum distance separation requirements with a site restriction of 4.2 kilometers (2.6 miles) northeast of San Isidro. The coordinates for Channel 247A at San Isidro are 26-45-00 North Latitude and 98-26-00 West Longitude.

DATES: Comments must be filed on or before December 10, 2001, and reply comments on or before December 26, 2001.

ADDRESSES: Federal Communications Commission, Washington, D.C., 20554. In addition to filing comments with the FCC, interested parties should serve the petitioner for both proposals, as follows: Jeraldine Anderson; 1702 Cypress Drive; Irving, Texas 75601.

FOR FURTHER INFORMATION CONTACT: R. Barthen Gorman, Mass Media Bureau, (202) 418-2180.

SUPPLEMENTARY INFORMATION: This is a synopsis of the Commission's Notice of Proposed Rule Making, MM Docket No. 01-304 and MM Docket No. 01-305, adopted October 10, 2001, and released October 19, 2001. The full text of this document is available for public inspection and copying during regular business hours in the FCC Reference Information Center, Portals II, 445 12th Street, SW, Room CY-A257, Washington, DC, 20554. This document may also be purchased from the Commission's duplicating contractor, Qualex International, Portals II, 445 12th Street, SW., Room CY-B402, Washington, DC 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR §§ 1.415 and 1.420.

List of Subjects in 47 CFR Part 73

Radio broadcasting.

For the reasons discussed in the preamble, the Federal Communications Commission proposes to amend 47 CFR Part 73 as follows:

PART 73—RADIO BROADCAST SERVICES

The authority citation for Part 73 continues to read as follows:

Authority: 47 U.S.C. §§ 154, 303, 334, and 336.

§ 73.202 [Amended]

1. Section 73.202(b), the Table of FM Allotments under Texas, is amended by adding Channel 287C3 at Menard, and San Isidro, Channel 247A.

Federal Communications Commission.
John A. Karousos,
Chief, Allocations Branch, Policy and Rules Division, Mass Media Bureau.

[FR Doc. 01-27347 Filed 10-30-01; 8:45 am]

BILLING CODE 6712-01-P